DEPARTMENT OF VETERANS AFFAIRS

Capital Asset Realignment for Enhanced Services (CARES) Commission; Notice of Public Hearings

The Department of Veterans Affairs (VA) gives notice under Public Law 92-463 (Federal Advisory Committee Act) that the Capital Asset Realignment for Enhanced Services (CARES) Commission will be holding public hearings on the impact of the CARES draft national plan in the Veterans Integrated Services Networks (VISN) and Markets designated below. The hearings will be conducted at the locations, dates and times as follows:

Dates | VA sites | Hearing locations | Markets | VISN
August 12, 9:00 a.m. | Baltimore, MD | Marriott (Waterfront) Hotel, 700 Aliceanna Street, Baltimore, MD 21202 | All Markets | 5
August 12, 9:00 a.m. | Cleveland, OH | Intercontinental Hotel and Conference Center, Amphitheatre A and B, 9801 Carnegie Avenue, Cleveland, OH 44106 | Eastern | 10
August 18, 9:00 a.m. | Leavenworth, KS | Leavenworth VA Medical Center Theatre, 4101 4th Street Trafficway, Leavenworth, KS 64068 | Central West | 15
August 19, 9:00 a.m. | Columbus, OH | Franklin County Veterans Memorial, 300 W. Broad Street, Auditorium, Columbus, OH 43215 | Central Western | 10
August 20, 1:00 a.m. | Fort Wayne, IN | Indiana Wesleyan University Conference Center, 8211 Jefferson Boulevard, Ft. Wayne, IN 46804 | Indiana Central Illinois | 11
August 20, 9:00 a.m. | Poplar Bluff, MO | Black River Coliseum, 301 South 5th Street, Poplar Bluff, MO 63901 | East | 15
August 22, 9:00 a.m. | Detroit, MI | John D. Dingell VA Medical Center, 4646 John R Street, Room B-1290, Detroit, MI 48201 | Michigan | 11
August 22, 9:00 a.m. | Muskogee, OK | Muskogee VA Medical Center Auditorium, 1011 Honor Heights Drive, Muskogee, OK 74401 | Upper Western | 16
August 25, 10:00 a.m. | Bedford, MA | Wyndham Billerica Hotel, 270 Concord Road, Billerica, MA 01862 | All Markets | 1
August 26, 10:00 a.m. | Biloxi, MS | Va Gulf Coast Veterans Health Care System, Recreation Hall Building 17, 400 Veterans Avenue, Biloxi, MS 39531 | Central Southern Eastern Southern | 16
August 27, 10:00 a.m. | Pittsburgh, PA | VA Pittsburgh Healthcare System, Highland Drive Division, 7180 Highland Drive, Pittsburgh, PA 15206 | Western | 4
August 27, 1:00 p.m. | Shreveport, LA | Shreveport VA Medical Center, Education Center, 510 E. Stoner Avenue, Shreveport, LA 71101 | Central Lower | 16
August 28, 10:00 a.m. | Coatesville, PA | VA Medical Center, 1400 Blackhorse Hill Road, Coatesville, PA 19320 | Eastern | 4
August 28, 1:00 p.m. | Atlanta, GA | VA Medical Center, 1670 Clairmont Road, Pete Wheeler Auditorium, Room GA 104, Decatur, GA 30033 | Alabama Georgia | 7
September 3, 9:00 a.m. | Minneapolis, MN | VA Medical Center, One Veterans Drive, Building 70, Room Auditorium, 1S-126, Minneapolis, MN 55417 | Minnesota N. Dakota S. Dakota | 23
September 4, 1:00 p.m. | Omaha, NE | Holiday Inn Central, 3321 S. 72nd Street, Palace G, Omaha, NE 68124 | Nebraska Iowa | 23
September 8, 10:00 a.m. | Charleston, SC | Elks Lodge 242, 1113 Sam Rittenberg Boulevard, Charleston, SC 29407 | South Carolina | 7
September 8, 9:00 a.m. | Lexington, KY | Marriott Griffin Gate Resort, Grand Ball Room, 1800 Newtown Pike, Lexington, KY 40511 | Northern | 9
September 10, 9:00 a.m. | Nashville, TN | Nashville Convention Center, 601 Commerce Street, Hearing Room 108-109, Nashville, TN 37203 | Central Eastern Western | 9
September 10, 9:00 a.m. | Orlando, FL | Adam's Mark Hotel, Florida Mall, 1500 Sand Lake Road, Orlando, FL 32809 | All Markets | 8
September 12, 10:00 a.m. | Durham, NC | Durham Marriott at the Civic Center, 201 Foster Street, Durham, NC 27701 | All Markets | 6
September 15, 1:00 p.m. | Lyons, NJ | VA New Jersey Healthcare System (Lyons Campus), Building 143—Multipurpose Room, 151 Knollcroft Road, Lyons, NJ 07939 | New Jersey | 3
September 17, 1:00 p.m. | Bronx, NY | VA Medical Center, Main Hospital—Room 3D-22 (3rd Floor), 130 West Kingsbridge Road, Bronx, NY 10468 | Long Island Metro New York | 3
September 18, 9:00 a.m. | El Paso, TX | El Paso VA Health Care System, Soldiers Hall, Building 2, Fort Bliss, TX 79916 | New Mexico/West Texas | 18
September 19, 1:00 p.m. | Prescott, AZ | Northern Arizona VA Healthcare System, 500 Hwy 89N, Building 15 Theatre, Prescott, AZ 86313 | Arizona | 18
September 19, 1:00 p.m. | Syracuse, NY | MARX Hotel & Conference Center, 701 East Genesee Street, Syracuse, NY 13210 | All Markets | 2
September 22, 1:00 p.m. | Denver, CO | VA Medical Center, 1055 Clermont Street, Denver, CO 80220 | Western Rockies Grand Junction Eastern Rockies | 19
September 24, 1:00 p.m. | Billings, MT | Holiday Inn Grand Montana, 5500 Midland Road, Billings MT 59101 | Montana Wyoming Sheridan | 19
September 26, 10:00 a.m. | Las Vegas, NV | Hyatt Regency Lake Las Vegas, 101 Montelago Boulevard, Henderson, NV 89011 | Nevada (South Central) | 22
September 26, 9:00 a.m. | Portland, OR | VA Medical Center, Vancouver Threatre Building C-6, 1601 E. Fourth Plain Boulevard, Vancouver, WA 98661 | So. Cascade Inland South Alaska | 20
September 29, 10:00 a.m. | Long Beach, CA | VA Long Beach Healthcare System, 5901 E. 7th Street, Long Beach, CA 90822 | California (Southern) | 22
September 29, 9:00 a.m. | Walla Walla, WA | Jonathan M. Wainwright Memorial VA, Medical Center Theater, Building 78, 77 Wainwright Drive, Walla Walla, WA 99362 | W. Washington Inland North | 20
October 1, 10:00 a.m. | Palo Alto, CA | Va Palo Alto Healthcare System, Auditorium, Building 101, 3801 Miranda Avenue, Palo Alto, CA 94304 | North Coast South Coast Pacific Island | 21
October 1, 1:00 p.m. | San Antonio, TX | Henry B. Gonzales Convention Center, 200 E. Street, San Antonio, TX 78205 | South Valley Coastal Bend | 17
October 2, 10:00 a.m. | Sacramento, CA | Garden Pavilion, Operated by LionsGate Hotel at McClellan Park, 5640 Dudley Boulevard, McClellan, CA 95652 | North Valley South Valley Sierra Nevada | 21
October 3, 1:00 p.m. | Dallas, TX | Dallas VA Medical Center, Community Center, 4500 S. Lancaster Rd., Dallas, Texas 75216 | North Central | 17
* Veterans Integrated Service Network.

The purpose of the Commission is to conduct an external assessment of VA's capital asset needs. The Commission will consider recommendations prepared for the CARES draft national plan, and the views and concerns of veterans service organizations, individual veterans, Congress, medical school affiliates, VA employees, local government entities, community groups and others. Following its assessment, the Commission will make specific recommendations to the Secretary of Veterans Affairs regarding the realignment and allocation of capital assets necessary to meet the demands for veterans health care.

Interested persons in the general public may observe the hearings and/or file written statements with the Commission regarding the impact of the draft national plan in the markets designated to be covered at each hearing. Written statements may be filed either before the hearing or within 7 days after the hearing. These statements may be addressed to Mr. Richard D. Larson, Executive Director, CARES Commission, (OOCARES), 810 Vermont Avenue, NW., Washington, DC 20480; or faxed to (202) 501-2196; or submitted electronically to http://www.carescommission.va.gov. Where applicable, written statements should indicate that they are submitted regarding a specific hearing. Such statements will be given a weight equal to testimony provided at the Commission hearings. Any member of the public wishing additional information should contact Ms. Janice Sloan at the Commission, at (202) 501-2000.

Dated: July 29, 2003.
By Direction of the Secretary.
E. Philip Riggin,
Committee Management Officer.

[FR Doc. 03-19759 Filed 8-1-03; 8:45 am]

BILLING CODE 8320-01-M